DEPARTMENT OF AGRICULTURE

Forest Service

Kaibab National Forest; Arizona; Cancellation of Notice of Intent To Prepare an Environmental Impact Statement for the Expansion of the Bill Williams Ski Area

AGENCY: Forest Service, USDA.

ACTION: Cancellation of notice of intent to prepare an Environmental Impact Statement for expansion of the Bill Williams Ski Area.

SUMMARY: The United States Department of Agriculture Forest Service (USDA, FS), Region 3, Kaibab National Forest, announces the cancellation of its intent to prepare an Environmental Impact Statement (EIS) for expansion of the Bill Williams Ski Area. The Notice of Intent to prepare this EIS was published in the Federal Register Volume 62, No. 223 on November 19, 1997, page 61726. The notice of availability for the Draft EIS was published in the Federal Register Volume 64, No. 246 on December 23, 1999, pages 72078 and 72079. The environmental analysis process for this project has been terminated and a decision on the proposed action is no longer necessary.

FOR FURTHER INFORMATION CONTACT: Liz Schuppert at USDA, FS Kaibab National Forest, 800 S. 6th St., Williams, AZ 86046, 928/635-8200.

Dated: August 18, 2005.
Mike R. Williams,
Forest Supervisor.

[FR Doc. 05-17825 Filed 9-12-05; 8:45 am]

BILLING CODE 3410-11-M